DEPARTMENT OF THE INTERIOR

National Park Service

General Management Plan, Record of Decision, Big Bend National Park, TX

AGENCY: National Park Service, Interior.

ACTION: Notice of Availability of a Record of Decision on the Final Environmental Impact Statement for the General Management Plan, Big Bend National Park.

SUMMARY: Pursuant to § 102(2)(C) of the National Environmental Policy Act of 1969, 83 Stat. 852, 853, codified as amended at 42 U.S.C. 4332(2)(C), the National Park Service (NPS) announces the availability of the Record of Decision for the General Management Plan/Environmental Impact Statement for Big Bend National Park, Texas. On September 13, 2004, the Director, Intermountain Region approved the Record of Decision for the project. As soon as practicable, the NPS will begin to implement the General Management Plan, described as the Preferred Alternative contained in the Final Environmental Impact Statement issued July 9, 2004. In the preferred alternative, a new visitor center will be built at Panther Junction to provide room for interpretive media to adequately interpret key aspects of the park's stories and to help visitors plan their stays. The space in the headquarters building vacated by the visitor center function will be redesigned for staff offices. A storage warehouse, bunkhouse, and employee residence will also be built at Panther Junction. The natural resources and collection management building should adequately provide for the collection storage needs for the duration of this plan. If additional storage collection space is needed, the other new storage areas will be evaluated to accommodate this need. One employee residence and one employee bunkhouse will be removed from Chisos Basin to reduce human water use at the area. At Rio Grande Village the RV campground will be enlarged by about 40% in area, with no more than 30 total sites. Cottonwood Campground campsites will be relocated away from bank cave-in areas, and a new egress road will be constructed. Fifteen percent of park personnel will be moved to gateway communities where offices and residences will be built or leased. This course of action and two alternatives were analyzed in the Draft and Final Environmental Impact Statements. The full range of foreseeable environmental consequences was assessed, and appropriate mitigating measures identified. The full Record of Decision includes a statement of the decision made, synopses of other alternatives considered, the basis for the decision, a description of the environmentally preferable alternative, a finding on impairment of park resources and values, a listing of measures to minimize environmental harm, an overview of public involvement in the decisionmaking process, and a statement of findings.

Basis for Decision

In reaching its decision to select the preferred alternative, NPS managers considered the purposes for which the park was established and other laws and policies that apply to lands in the park, including the NPS Organic Act, National Environmental Policy Act, NPS Director's Order 12 (Conservation Planning, Environmental Impact Analysis, and Decisionmaking), and the NPS Management Policies 2001. The NPS also carefully considered public comments received during the planning process.

To develop a preliminary preferred alternative, the planning team evaluated the alternatives that had been reviewed by the public. The alternatives were tested against the decision points and issues identified by the public and park to determine their relative advantages. The following conclusions were reached:

• The preferred alternative includes more actions that are beneficial to the cultural and natural resources than other alternatives.

• The preferred alternative will enhance the visitor's experience by providing multiple opportunities for visitors to make intellectual and emotional connections to the park. Enhanced interpretation, programs, and activities will enable visitors to link tangible resources with the intangible meanings and significance of the park. The proposed development will provide opportunities for the interpretive division to fully address the various themes and complexities of the park.

Findings on Impairment

The NPS has determined that implementation of the proposal will not constitute an impairment to Big Bend National Park's resources and values. This conclusion is based on a thorough analysis of the environmental impacts described in the Environmental Impact Statement, the public comments received, relevant scientific studies, and the professional judgment of the decision-maker guided by the direction in the NPS Management Policies. Overall, the plan results in benefits to park resources and values and opportunities for their enjoyment, and it does not result in their impairment.

FOR FURTHER INFORMATION CONTACT: John H. King, Big Bend National Park, P.O. Box 129, Big Bend National Park, TX 79834-0129, (915) 477-2251.

SUPPLEMENTARY INFORMATION: Copies of the Record of Decision may be obtained from the contact listed above.

Dated: November 8, 2004.
Bernard C. Fagan,
Deputy Chief, NPS Office of Policy .

[FR Doc. 04-25354 Filed 11-15-04; 8:45 am]

BILLING CODE 4312-52-P